DEPARTMENT OF DEFENSE

Uniformed Services University of the Health Sciences

Sunshine Act Notice

Agency Holding the Meeting: Uniformed Services University of the Health Sciences.

Time and Date: 8 a.m. to 4 p.m., August 3, 2004.

Place: Uniformed Services University of the Health Sciences, Board of Regents Conference Room (D3001), 4391 Jones Bridge Road, Bethesda, MD 20814-4799.

Status: Open—under “Government in the Sunshine Act” (5 U.S.C. 552b(e)(3)).

Matters To Be Considered: 8 a.m. Meeting—Board of Regents:

(1) Approval of Minutes—May 14, 2004.

(2) Faculty Matters.

(3) Departmental Reports.

(4) Financial Report.

(5) Report—President, USUHS.

(6) Report—Dean, School of Medicine.

(7) Report—Dean, Graduate School of Nursing.

(8) Approval of Degrees—School of Medicine, Graduate School of Nursing.

(9) Comments—Chairman, Board of Regents.

(10) New Business.

FOR FURTHER INFORMATION CONTACT: Dr. Barry Wolcott, Executive Secretary, Board of Regents, (301) 295-3981.

Dated: June 30, 2004.
L.M. Bynum,
Alternate OSD Federal Register Liaison Officer, Department of Defense.

[FR Doc. 04-15430 Filed 7-1-04; 3:19 am]

BILLING CODE 5001-06-M